COMMISSION ON CIVIL RIGHTS

Sunshine Act Notice

Date and Time: Thursday, December 14, 2006, 9 a.m.

Place: U.S. Commission on Civil Rights, 624 Ninth Street, NW., Rm. 540, Washington, DC 20425.

The meeting is also accessible to the public through the following: Call-In Number: 1-800-597-0731. Access Code Number: 43783773. Federal Relay Service: 1-800-877-8339.

Meeting Agenda

I. Approval of Agenda

II. Approval of Minutes of November 17, Meeting

III. Announcements

IV. Staff Director's Report

V. Management and Operations

• Quality Information Guidelines

• Proposed Rule on Conduct Regulations

• Proposed Rule on Outside Employment

• Strategic Planning

• Procedures for Briefing Reports

• Procedures for National Office Work Products

VI. Program Planning

• January Business Meeting and Briefing

• Revised 2007 Business Meeting and Briefing Calendar

• Affirmative Action in Law Schools Briefing Report

• Campus anti-Semitism Public Education Campaign

• Kentucky SAC Report

• Florida SAC Report

VII. State Advisory Committee Issues

• California SAC Members

• Arizona SAC

VIII. Future Agenda Items

X. Adjourn

Briefing Agenda

Commission Briefing: Elementary and Secondary School Desegregation

• Introductory Remarks by Chairman

• Speakers' Presentation

• Questions by Commissioners and Staff Director

Contact Person for Further Information: Manuel Alba, Press and Communications (202) 376-7700.

David P. Blackwood,
General Counsel.

[FR Doc. 06-9584 Filed 12-4-06; 4:21 pm]

BILLING CODE 6335-01-P